DEPARTMENT OF COMMERCE

National Oceanic and Atmospheric Administration

RIN 0648-XA602

Marine Mammals; File Nos. 16109 and 15575

AGENCY: National Marine Fisheries Service (NMFS), National Oceanic and Atmospheric Administration (NOAA), Commerce.

ACTION: Notice; issuance of permits.

SUMMARY: Notice is hereby given that permits have been issued to GeoMarine, Inc. [File No. 16109] (Responsible Party: Jason Holt See; Principal Investigator: Amy Whitt), 2201 K Avenue, Suite A2, Plano, TX 75074 and to Robert A. DiGiovanni Jr. [File No. 15575], Riverhead Foundation for Marine Research and Preservation, 467 East Main St., Riverhead, NY 11901 to conduct research on marine mammals and sea turtles.

ADDRESSES: The permits and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

FOR FURTHER INFORMATION CONTACT: Joselyd Garcia-Reyes [for File No. 16109] or Laura Morse [for File No. 15575] at (301) 427-8401.

SUPPLEMENTARY INFORMATION: On August 17, 2011, notice was published in the Federal Register (76 FR 51001) that requests for permits to conduct research on marine mammals and sea turtles had been submitted by the above-named applicants. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

File No. 16109: GeoMarine, Inc. was issued a permit that authorizes takes of 35 species of cetaceans, four species of pinnipeds, and five species of sea turtles from New Jersey to North Carolina. The research involves harassment by survey approach during shipboard transect surveys. Eleven of the 44 species targeted for research are listed as threatened or endangered: Blue whale (Balaenoptera musculus), fin whale (B. physalus), humpback whale (Megaptera novaeangliae), North Atlantic right whale (Eubalaena glacialis), sei whale (B. borealis), sperm whale (Physeter macrocephalus), green sea turtle (Chelonia mydas), hawksbill sea turtle (Eretmochelys imbricata), loggerhead sea turtle (Caretta caretta), Kemp's ridley sea turtle (Lepidochelys kempii), and leatherback sea turtle (Dermochelys coriacea). The permit expires May 15, 2017.

File No. 15575: Robert Di Giovanni, Jr. was issued a permit that authorizes takes of North Atlantic right whales and 43 other marine mammal and sea turtle species to conduct photo-identification surveys from both aerial and vessel platforms from North Carolina to Massachusetts. Eleven of the 44 species to be targeted for research are listed as threatened or endangered: Blue whale, fin whale, humpback whale, North Atlantic right whale, sei whale, sperm whale, green sea turtle, hawksbill sea turtle, loggerhead sea turtle, Kemp's ridley sea turtle, and leatherback sea turtle. In addition, pinniped research includes the placement of remote camera systems at pinniped haul out sites for long-term monitoring of behavior and abundance, and collection of scat for health assessment studies. Opportunistic sighting data will be collected during vessel transits to and from pinniped haul out sites. The permit expires May 15, 2017.

An environmental assessment (EA) was prepared analyzing the effects of the permitted activities on the human environment, in compliance with the National Environmental Policy Act of 1969 (42 U.S.C. 4321 et seq.). Based on the analyses in the EA, NMFS determined that issuance of the permits would not significantly impact the quality of the human environment and that preparation of an environmental impact statement was not required. That determination is documented in a Finding of No Significant Impact (FONSI), signed on May 1, 2012.

As required by the ESA, issuance of these permits was based on a finding that such permits: (1) Were applied for in good faith; (2) will not operate to the disadvantage of such endangered species; and (3) are consistent with the purposes and policies set forth in section 2 of the ESA.

Dated: May 7, 2012.
Tammy C. Adams,
Acting Chief, Permits and Conservation Division, Office of Protected Resources, National Marine Fisheries Service.

[FR Doc. 2012-11521 Filed 5-10-12; 8:45 am]

BILLING CODE 3510-22-P